DEPARTMENT OF COMMERCE

National Oceanic and Atmospheric Administration

RIN 0648-XB47

Fishing Capacity Reduction Program for the Longline Catcher Processor Subsector of the Bering Sea and Aleutian Islands Non-Pollock Groundfish Fishery

AGENCY: National Marine Fisheries Service (NMFS), National Oceanic and Atmospheric Administration, Commerce.

ACTION: Notice of fee rate adjustment.

SUMMARY: NMFS issues this notice to decrease the fee rate for the non-pollock groundfish fishery to repay the $35,000,000 reduction loan to finance the Non-Pollock groundfish fishing capacity reduction program.

DATES: The non-pollock groundfish program fee rate decrease will begin on January 1, 2010.

ADDRESSES: Send questions about this notice to Leo Erwin, Chief, Financial Services Division, National Marine Fisheries Service, 1315 East-West Highway, Silver Spring, MD 20910-3282.

FOR FURTHER INFORMATION CONTACT: Leo Erwin, (301) 713-2390.

SUPPLEMENTARY INFORMATION:

I. Background

Sections 312(b)-(e) of the Magnuson-Stevens Fishery Conservation and Management Act (16 U.S.C. 1861a(b)through (e)) generally authorizes fishing capacity reduction programs. In particular, section 312(d) authorizes industry fee systems for repaying reduction loans which finance reduction program costs.

Subpart L of 50 CFR part 600 is the framework rule generally implementing section 312(b)-(e).

Sections 1111 and 1112 of the Merchant Marine Act, 1936 (46 App. U.S.C. 1279f and 1279g) generally authorizes reduction loans.

Enacted on December 8, 2004, section 219, Title II, of FY 2005 Appropriations Act, Public Law 104-447 (Act) authorizes a fishing capacity reduction program implementing capacity reduction plans submitted to NMFS by catcher processor subsectors of the Bering Sea and Aleutian Islands (“BSAI”) non-pollock groundfish fishery (“reduction fishery”)as set forth in the Act.

The longline catcher processor subsector (the “Longline Subsector”) is among the catcher processor subsectors eligible to submit to NMFS a capacity reduction plan under the terms of the Act.

The longline subsector non-pollock groundfish reduction program's objective was to reduce the number of vessels and permits endorsed for longline subsector of the non-pollock groundfish fishery.

All post-reduction fish landings from the reduction fishery are subject to the longline subsector non-pollock groundfish program's fee.

NMFS proposed the implementing notice on August 11, 2006 (71 FR 46364)and published the final notice on September 29, 2006 (71 FR 57696).

NMFS allocated the $35,000,000 reduction loan to the reduction fishery and is repayable by fees from the fishery.

NMFS published in the Federal Register on September 24, 2007 (72 FR 54219), the final rule to implement the industry fee system for repaying the non-pollock groundfish program's reduction loan and established October 24, 2007 as the effective date when fee collection and loan repayment began. The regulations implementing the program are located at § 600.1012 of 50 CFR part 600's subpart M.

II. Purpose

The purpose of this notice is to adjust, in accordance with the framework rule's § 600.1013(b), the fee rate for the reduction fishery. Section 600.1013(b) directs NMFS to recalculate the fee rate that will be reasonably necessary to ensure reduction loan repayment within the specified 30 year term.

NMFS has determined for the reduction fishery that the current fee rate of $0.02 per pound is more than needed to service the loan. Therefore, NMFS is decreasing the fee rate to $0.016 per pound which NMFS has determined is sufficient to ensure timely loan repayment.

To provide more accessible services, streamline collections, and save taxpayer dollars, subsector members may disburse collected fee deposits to NMFS by using a secure Federal system on the Internet known as Pay.gov. Pay.gov enables subsector members to use their checking accounts to electronically disburse their collected fee deposits to NMFS. Subsector members who have access to the Internet should consider using this quick and easy collected fee disbursement method. Subsector members may access Pay.gov by going directly to Pay.gov's Federal website at: http://www.pay.gov/paygov/.

Subsector members who do not have access to the Internet or who simply do not wish to use the Pay.gov electronic system, may continue to disburse their collected fee deposits to us by sending their checks to our lockbox. Our lockbox's address is:

NOAA Fisheries Longline Catcher Processor Non-pollock Buyback

P. O. Box 979028

St. Louis, MO 63197—9000

Subsector members must not forget to include with their disbursements the fee collection report applicable to each disbursement. The fee collection report tells NMFS how much of the disbursement it must apply to the reduction fishery loan. Subsector members using Pay.gov will find an electronic fee collection report form to receive information and accompany electronic disbursements. Subsector members who do not use Pay.gov must include a hard copy fee collection report with each of their disbursements. Subsector members not using Pay.gov may also access the NMFS website for an Excel spreadsheet version of the fee collection report at: http://www.nmfs.noaa.gov/mb/financial_services/buyback.htm.

III. Notice

The new fee rate for the Non-Pollock Groundfish fishery will begin on January 1, 2010.

From and after this date, all subsector members paying fees on the non-pollock groundfish fishery shall begin paying non-pollock groundfish fishery program fees at the revised rate.

Fee collection and submission shall follow previously established methods in § 600.1013 of the framework rule and in the final fee rule published in the Federal Register on September 24, 2007 (72 FR 54219).

The revised fees applicable to the non-pollock groundfish program's reduction fishery is as follows:

FISHERY | CURRENT FEE RATE | NEW FEE RATE
Non-Pollock Groundfish | $0.02 per pound | $0.016 per pound

Authority: The authority for this action is Pub. L. 108-447, 16 U.S.C. 1861a (b-e), and 50 CFR 600.1000 et seq.

Dated: October 27, 2009
John Oliver,
Deputy Assistant Administrator for Operations, National Marine Fisheries Service.

[FR Doc. E9-26306 Filed 10-30-09; 8:45 am]

BILLING CODE 3510-22-S